DEPARTMENT OF ENERGY

Federal Energy Regulatory Commission

Notice of Commission Half-Day Closing

Pursuant to the Office of Personnel Management announcement on January 22, 2016, all Federal Government offices in the District of Columbia metropolitan area will be closed at 12 noon.

In accordance with section 385.2007 of the Commission's Rules, 18 CFR 385.2007, filings and documents due to be filed on Friday, January 22, 2016 will be accepted as timely on the next official business day.

Nathaniel J. Davis, Sr.,
Deputy Secretary.

[FR Doc. 2016-01806 Filed 2-1-16; 8:45 am]

BILLING CODE 6717-01-P